DEPARTMENT OF TRANSPORTATION

Federal Transit Administration

Early Scoping Reopening Notification for the Alternatives Analysis of the GA 400 Transit Initiative in Fulton County, Georgia

AGENCY: Federal Transit Administration (FTA), DOT.

ACTION: Notice of reopening of early scoping and comment periods and announcement of additional scoping meetings.

SUMMARY: The Federal Transit Administration (FTA) and the Metropolitan Atlanta Rapid Transit Authority (MARTA) issue this early scoping notice to advise other agencies and the public that they intend to conduct another round of early scoping. The additional early scoping period will continue the examination of potential alternatives for providing high-capacity transit in the Georgia (GA) 400 corridor in north Fulton County, GA from Dunwoody to Alpharetta. The alternatives would improve transit linkages and coverage to communities within this corridor and would enhance mobility and accessibility to and within the corridor by providing a more robust transit network that offers an alternative to automobile travel. This notice invites the public and agency officials to provide input to the ongoing alternatives analysis and system planning effort by commenting on the project's purpose and need, the project study area, the alternatives being considered, the transportation problems that are being addressed by the alternatives analysis study, public participation and outreach methods, the relevant transportation and community impacts and benefits being considered, known environmental issues raised by public and agency coordination to date, and the projected capital and operating costs of this project.

The early scoping process is intended to support the alternatives analysis and a future National Environmental Policy Act (NEPA) scoping process and will help streamline the future development of an environmental impact statement (EIS), if warranted. In addition, the early scoping process supports FTA planning requirements associated with the New Starts (“Section 5309”) funding program for certain kinds of major capital investments. Although recent legislation has led to changes in the New Starts process, MARTA will comply with all relevant FTA requirements relating to planning and project development to help analyze and screen alternatives in preparation for the NEPA process.

The planned public meetings are described immediately below. A more detailed discussion of the project and this early scoping process is included in sections that follow.

DATES: Three early scoping meetings where the public and interested agencies can learn more about and comment on the scope of the alternatives analysis will be held on the following dates at the locations indicated under ADDRESSES below:

• Tuesday, July 8, 2014.

• Thursday, July 10, 2014.

• Thursday, July 17, 2014.

At the early scoping meetings, MARTA will provide information on the alternatives analysis progress along with opportunities for written comments. Written or electronic scoping comments are requested by August 8, 2014, and can be sent or emailed to the MARTA project manager at the address below. Comments may also be offered at the early scoping meetings and will be accepted after the deadline as practicable.

ADDRESSES: Written or electronic comments should be sent to Mark Eatman, P.E., Project Manager, MARTA, 2424 Piedmont Road NE., Atlanta GA 30324-3330 or by email to connect400@itsmarta.com. If submitting an electronic comment, please type “Connect 400 Early Scoping Comment for MARTA” in the subject line of the email. MARTA maintains a Facebook page for the Connect 400 project and will notify Facebook followers, in conjunction with publication of this notice, to submit comments to the aforementioned email address as well.

Early Scoping meetings will be held at the following locations:

• Tuesday, July 8, 2014, 6:30 to 8:00 p.m., at Johns Creek Environmental Campus, 8100 Holcomb Bridge Road, Roswell, GA 30022.

• Thursday, July 10, 2014, 6:30 to 8:00 p.m., at Georgia State University Alpharetta Center, 3775 Brookside Pkwy, Alpharetta, GA 30022.

• Thursday, July 17, 2014, 6:30 p.m.-8:00 p.m., Hampton Inn Atlanta—Perimeter Center, 769 Hammond Dr. NE., Atlanta, GA 30328.

The meeting locations are accessible to persons with disabilities. If translation, signing services, or other special accommodations are needed, please contact the Project Manager, Mr. Mark Eatman at mreatman@itsmarta.com or 404-848-4494, or the Senior Transit System Project Planner, Ms. Janide Sidifall at jsidifall@itsmarta.com or 404-848-5828 at least one week before the scoping meetings.

FOR FURTHER INFORMATION CONTACT: Mr. Keith Melton, Community Planner, FTA Region IV, 230 Peachtree Street NW., Suite 800, Atlanta, GA 30303 or email: keith.melton@dot.gov.

SUPPLEMENTARY INFORMATION:

Early Scoping

Early scoping is an optional early step in the NEPA process that precedes NEPA scoping, which normally begins when the FTA and the grant applicant publish a notice of intent to prepare an EIS. FTA encourages the use of early scoping for major planning activities and studies that may receive other FTA funding as a way to start the NEPA process during earlier project planning phases. Early scoping is intended to generate public and agency review and comments on the scope of a planning effort within a defined transportation corridor, which helps the agency to determine which particular alignment variations, should receive more focused study and development to streamline the NEPA process. Early scoping can serve not only to streamline the NEPA process, but also to firmly link transportation planning and NEPA, making sure that the public and interested agencies are given the opportunity to review and provide comments on the results of planning activities and studies that can then be used to inform the NEPA process.

Early scoping for the GA 400 Transit Initiative was initially announced in 78 FR 53187, August 28, 2013, and is being conducted in support of NEPA requirements and in accordance with the Council on Environmental Quality's (CEQ) and FTA's regulations and guidance for implementing NEPA (40 CFR 1501.2 through 1501.8 and through 23 CFR 771.111), which encourage federal agencies to initiate NEPA early in their planning processes. Early scoping allows the scoping process to begin as soon as there is enough information to describe the proposal so that the public and relevant agencies can participate effectively. This is particularly useful in situations when a proposed action involves a broadly defined corridor with an array of transit investment alternatives. This notice reopens early scoping and invites public and agency involvement with the ongoing supplementary planning activities and studies for the GA 400 Transit Initiative, including review of the (a) purpose and need, (b) the proposed alternatives, and (c) the potential environmental, transportation, and community impacts and benefits to consider during the NEPA process.

The GA 400 Transit Initiative and the Regional Transit System

The GA 400 Corridor Alternatives Analysis (AA) was initiated by MARTA in late 2011 to identify potential and feasible transit modal alternatives in the GA 400 corridor to address travel demands. The GA 400 corridor is the transportation spine of northern Fulton County, one of the fastest growing sub-regions in the metro-Atlanta region. The GA 400 Corridor AA addressed the travel market in a study area generally extending north along GA 400 from I-285 in Dunwoody to the Fulton/Forsyth County line north of Alpharetta, a distance of approximately 15 miles. The corridor is home to many employment centers, including Perimeter Center in the southern portion of the corridor, one of the largest employment centers for the region. Transit service to and within the study area is provided primarily by MARTA heavy rail and bus. The Georgia Regional Transportation Authority (GRTA) also operates two bus routes that connect the southern portion of the GA 400 corridor with express bus service at peak hours to/from the north and southeast outside the GA 400 corridor. Rail service extends from Downtown Atlanta to the major retail and employment centers, including the Medical Center and Perimeter Center in Dunwoody and Sandy Springs in the southern portion of the corridor. MARTA bus service primarily functions as feeder service to MARTA heavy rail stations from areas to the north, including Roswell, Alpharetta and Milton. A number of the bus routes and the MARTA heavy rail stations serve park-and-ride facilities.

Purpose and Need for the Proposed Project

MARTA invites comments on the following preliminary statement of the project's purpose and need.

The purpose of the project is to provide reliable, convenient, efficient, and sustainable transit service in the GA 400 corridor by:

• Providing high capacity transit (bus and/or rail) through the GA 400 corridor study area;

• Improving transit linkages and coverage to communities within the study area; and

• Enhancing mobility and accessibility to and within the study area by providing a more robust transit network that offers an alternative to automobile travel.

The need for this project arises from the following:

• Travel demand—Increased travel demand and traffic congestion;

• Transit mobility—There is inadequate transit connectivity within the northern Fulton study area and between the study area and DeKalb, Gwinnett, and Cobb Counties and central Atlanta. In addition, east-west transit connectivity is inadequate. The limited routes across the Chattahoochee River reflect the inadequate transit connectivity;

• Transit travel times—Transit travel times are not competitive with auto travel times due to the lack of express service; this is true for north-south trips within the study area and for trips with origins and destinations outside the study area. Transit and auto travel times cannot be compared for east-west trips as there is no east-west transit service;

• Economic development—Traffic congestion caused by insufficient transportation system capacity affects both personal travel and goods movement, which constrains economic development opportunities; and

• Air quality—The continued growth of vehicular travel will negatively affect air quality in the study area and the region.

Potential Alternatives

MARTA has been exploring alternative transit mode, alignment, and design options for high capacity transit service in the GA 400 corridor using a three-step evaluation process. The three-step evaluation process includes a Fatal Flaw Analysis, Screen 1 and Screen 2 and is generally characterized by the application of an increasingly detailed and comprehensive set of performance measures to a decreasing number of alternatives. Each step in the evaluation process focuses the analysis on progressively fewer alternatives with higher levels of scrutiny. In addition, the Build Alternatives are compared not only to each other but also to the No-Build Alternative, which provides the benchmark for establishing the travel benefits, environmental impacts of the alternatives and the cost-effectiveness of the alternatives. The GA 400 Corridor Transit Initiative is currently in Screen 2. After consideration of the findings of the first and second steps in the evaluation process, MARTA has identified an alignment that would provide approximately 11.9 miles of transit service along the GA 400 corridor within existing right-of-way from the existing North Springs MARTA station to Windward Parkway. This alignment is referred to as the GA 400-1A Build Alternative. Bus rapid transit (BRT), heavy rail transit (HRT), and light rail transit (LRT) are the three transit modes or technologies being considered for this corridor. The three modes each have the same general alignment, following GA 400 from North Springs MARTA station to Windward Parkway. The LRT and the BRT alternatives have six stations, from south to north: Northridge, Holcomb Bridge, Mansell Road, North Point Mall, Old Milton and Windward Parkway. The HRT alternative is similar, but it does not currently include a station at Old Milton. The outcome of Screen 2 will be the recommendation of the preferred alternative. MARTA may also consider other alternatives that arise during the early scoping comment period.

FTA Procedures

At the end of the alternatives analysis process, FTA and MARTA anticipate identifying a preferred mode and corridor for further evaluation during the NEPA process. The classification of the NEPA documentation will be determined by the FTA at the end of the alternatives analysis. If the preferred mode and alignment involve the potential for significant environmental impacts an EIS may be required. If an EIS is required, a Notice of Intent to Prepare an EIS will be published in the Federal Register by FTA and the public and interested agencies will have the opportunity to participate in a review and comment period on the scope of the EIS.

Dated: June 18, 2014.
Yvette G. Taylor,
Regional Administrator Federal Transit Administration, Region IV.

[FR Doc. 2014-14560 Filed 6-20-14; 8:45 am]

BILLING CODE P